DEPARTMENT OF HEALTH AND HUMAN SERVICES

Health Care Financing Administration

[Document Identifier: HCFA-R-0296]

Notice of OMB Approval

AGENCY: Health Care Financing Administration, DHHS.

In compliance with the requirement of section 3506(c)(2)(A) of the Paperwork Reduction Act of 1995, the Health Care Financing Administration (HCFA), Department of Health and Human Services, obtained approval (OMB approval number 0938-0781) of the HCFA R 0296 form, Home Health Advanced Beneficiary Notice.

HCFA published a Federal Register notice on September 26, 2000, 65 FR 57821, seeking emergency OMB clearance, pursuant to the Paperwork Reduction Act, of a uniform Home Health Advance Beneficiary Notice (HHABN). Following a public comment period, and revision of the proposed uniform HHABN, HCFA submitted the revised HHABN to OMB. On December 1, 2000, OMB gave emergency clearance to a revised uniform HHABN. Pursuant to a Federal Register notice published by HCFA on October 6, 2000, 65 FR 59858, use of the uniform HHABN becomes mandatory not later than 90 days following OMB approval, which is March 1, 2001. (The uniform HHABN and related documents are posted on HCFA's website at http://www.hcfa.gov/medlearn/refhha.htm).

Dated: December 27, 2000.
John P. Burke III,
Reports Clearance Officer, Security and Standards Group, Division of HCFA Enterprise Standards.

[FR Doc. 01-671 Filed 1-9-01; 8:45 am]

BILLING CODE 4120-03-P